DEPARTMENT OF TRANSPORTATION

Federal Aviation Administration

14 CFR Part 97

[Docket No.29958; Amdt. No.1981]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment is part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (Air).

L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective April 20, 2000

Salisbury, NC, Rowan County, VOR OR GPS RWY 2, Amdt 5B, CANCELLED

Salisbury, NC, Rowan County, VOR OR GPS RWY 20, Amdt 1B CANCELLED

Salisbury, NC, Rowan County, VOR OR GPS-A, Amdt 7A, CANCELLED

Wallops Island, VA, Wallops Flight Facility, VOR/DME OR TACAN RWY 10, Amdt 5

* * * Effective May 18, 2000

Grinnell, IA, Grinnell Regional, NDB RWY 31, Amdt 2

Grinnell, IA, Grinnell Regional, GPS RWY 31 Orig

Claremore, OK, Clarmore Muni, VOR/DME OR GPS-B, Amdt 1

Llano, TX, Llano Muni, VOR OR GPS-A, Amdt 3

Marlin, TX, Marlin, VOR/DME OR GPS-A, Amdt 7

* * * Effective June 15, 2000

Mobile, Al, Mobile Downtown, VOR OR GPS RWY 14, Amdt 6

Anchorage, AK, Anchorage Intl, LOC RWY 6L, Amdt 9A, CANCELLED

Homer, AK, Homer, LOC/DME BC RWY 21, Amdt 4B

Homer, AK Homer, GPS RWY 21, Orig-B

Jacksonville, FL, Cecil Field, RADAR-1, Orig

Jacksonville, FL, Craig Muni, VOR OR GPS RWY 14, Amdt 3

Dodge City, KS Dodge City Regional, VOR RWY 14, Amdt 18A

Dodge City, KS, Dodge City Regional, VOR/DME OR GPS RWY 32, Amdt 4A

Hays, KS, Hays Muni, VOR/DME RWY 16, Amdt 3B

Hays, KS, Hays Muni, NDB OR GPS RWY 34, Amdt 2B

Hays, KS, Hays Muni, GPS RWY 16, Orig-B

Independence, KS, Independence Muni, ILS RWY 35, Amdt 1

Liberal, KS, Liberal Muni, VOR/DME OR GPS RWY 17, Amdt 3A

Liberal, KS, Liberal Muni, NDB RWY 35, Amdt 3A

Owensboro, KY, Owensboro-Daviess County, NDB OR GPS RWY 36, Amdt 8A

Alexandria, LA, Alexandria Intl, VOR OR GPS RWY 14, Amdt 1

Cameron, MO, Cameron Memorial, NDB RWY 35, Amdt 2

Cameron, MO, Cameron Memorial, RNAV RWY 17, Orig

Cameron, MO, Cameron Memorial, RNAV RWY 35, Orig

Jefferson City, MO, Jefferson City Memorial, NDB RWY 30, Orig-A

Albion, NE, Albion Muni, NDB RWY 33, Amdt 1

Albion, NE, Albion Muni, RNAV RWY 15, Orig

Albion, NE, Albion Muni, RNAV RWY 33, Orig

Albuquerque, NM, Albuquerque Intl Sunport, NDB OR GPS RWY 35, Amdt 7A

Carlsbad, NM, Cavern City Air Terminal, VOR OR GPS RWY 32L, Amdt 5A

Farmington, NM, Four Corners Regional, VOR RWY 25, Amdt 8B

Las Cruces, NM, Las Cruces International, NDB RWY 30, Orig-A

Roswell, NM, Roswell Industrial Air Center, NDB RWY 21, Amdt 16A

Hickory, NC, Hickory Regional, NDB RWY 24, Amdt 5A

Raleigh-Durham, NC, Raleigh-Durham International, NDB OR GPS RWY 5R, Amdt 20A

Raleigh-Durham, NC, Raleigh-Durham International, NDB OR GPS RWY 23L, Amdt 4B

Bismarck, ND, Bismarck Muni, NDB OR GPS RWY 31, Amdt 30B

Fargo, ND, Hector Intl, VOR/DME OR TACAN OR GPS RWY 17, Orig-C

Fargo, ND, Hector Intl, NDB RWY 17, Amdt 14C

Grand Forks, ND, Grand Forks Intl, VOR OR GPS RWY 17R, Amdt 5B

Grand Forks, ND, Grand Forks Intl, LOC BC RWY 17R, Amdt 12C

Grand Forks, ND, Grand Forks Intl, GPS RWY 26, Orig-B

Jamestown, ND, Jamestown Muni, NDB RWY 31, Amdt 6C

Minot, ND, Minot Intl, LOC BC RWY 13, Amdt 6B

Columbus, OH, Ohio State University, NDB RWY 9R, Amdt 2B

Columbus, OH, Port Columbus Intl, NDB OR GPS RWY 10R, Amdt 7A

Columbus, OH, Port Columbus Intl, NDB RWY 28R, Orig-C

Columbus, OH, Port Columbus Intl, NDB OR GPS RWY 28L, Amdt 13A

Oklahoma City, OK, Sundance Airpark, RNAV RWY 17, Orig

Oklahoma City, OK, Sundance Airpark, RNAV RWY 35, Orig

Oklahoma City, OK, Wiley Post, VOR RWY 35R, Amdt 3

Oklahoma City, OK, Wiley Post, ULS RWY 17L, Amdt 10

Erie, PA, Erie International, VOR OR GPS RWY 6, Amdt 15B

Erie, PA, Erie International, NDB RWY 24, Amdt 17B

Erie, PA, Erie International, VOR/DME OR GPS RWY 24, Amdt 11B

Aberdeen, SD, Aberdeen Regional, LOC/DME BC RWY 13, Amdt 10A

Aberdeen, SD, Aberdeen Regional, NDB RWY 31, Amdt 10A

Aberdeen, SD, Aberdeen Regional, GPS RWY 35, Orig-A

Huron, SD, Huron Regional, NDB RWY 12, Amdt 20B

Pierre, SD, Pierre Regional, VOR/DME OR TACAN OR GPS RWY 7, Amdt 4B

Rapid City, SD, Rapid City Regional, NDB RWY 32, Amdt 3B

Eastland, TX, Eastland Muni, RNAV RWY 35, Orig

Falfurrias, TX, Brooks County, GPS RWY 17, Orig-A

Falfurrias, TX, Brooks County, GPS RWY 35, Orig-A

Hebbronville, TX, Jim Hogg County, GPS RWY 13, Amdt 1A

Kingsville, TX, Kleberg County, NDB RWY 13, Amdt 5A

Kingsville, TX, Kleberg County, GPS RWY 13, Orig-A

Lockhart, TX, Lockhart Muni, GPS RWY 36, Orig-A

Robstown, TX, Nueces County, GPS RWY 12, Orig-B

Uvalde, TX, Garner Field, NDB RWY 33, Amdt 2

Uvalde, TX, Garner Field, RNAV RWY 33, Orig

Ogden, UT, Ogden-Hickley, GPS RWY 7, Orig-B

Richmond, VA, Chesterfield County, VOR/DME OR GPS RWY 15, Orig-B

Richmond, VA, Chesterfield County, NDB OR GPS RWY 33, Amdt 7C

[FR Doc. 00-7193 Filed 3-22-00; 8:45 am]

BILLING CODE 4910-13-M